DEPARTMENT OF TRANSPORTATION

Federal Aviation Administration

14 CFR Part 39

[Docket No. FAA-2012-0830; Directorate Identifier 2012-CE-026-AD]

RIN 2120-AA64

Airworthiness Directives; Hawker Beechcraft Corporation Airplanes

AGENCY: Federal Aviation Administration (FAA), DOT.

ACTION: Notice of proposed rulemaking (NPRM).

SUMMARY: We propose to adopt a new airworthiness directive (AD) for certain Hawker Beechcraft Corporation Model C90GTi (King Air) airplanes. This proposed AD was prompted by reports of incorrect gauge wires used in certain wiring bundles for the cockpit electrical power for backlighting and instrument panel components. This proposed AD would require replacing incorrect gauge wires in certain electrical power wiring bundles, inspecting associated wiring bundles and components for heat damage, and taking all necessary corrective actions. We are proposing this AD to correct the unsafe condition on these products.

DATES: We must receive comments on this proposed AD by September 24, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Hawker Beechcraft Corporation, 10511 E. Central Ave., Wichita, Kansas 67206; phone: (316) 676-3100 or (888) 727-4344; fax: (316) 676-3222 or (316) 676-3327; email: HBC_Parts@hawkerbeechcraft.com; Internet: www.hawkerbeechcraft.com. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Richard Rejniak, Aerospace Engineer, Wichita Aircraft Certification Office, FAA, 1801 Airport Road, Room 100, Wichita, Kansas 67209; phone: (316) 946-4128; fax: (316) 946-4107; email: richard.rejniak@faa.gov.

SUPPLEMENTARY INFORMATION:

Comments Invited

We invite you to send any written relevant data, views, or arguments about this proposal. Send your comments to an address listed under the ADDRESSES section. Include “Docket No. FAA-2012-0830; Directorate Identifier 2012-CE-026-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received a report that a Hawker Beechcraft Corporation Model C90GTi (King Air) airplane experienced an in-flight lighting failure of the pilot panel, audio panel, flight guidance control panel, and display control panel lighting.

Investigation revealed that incorrect gauge wires were used by the wiring fabricators in the wiring bundles for the pilot backlighting and instrument panel components. The specific pilot backlighting systems directly affected by the incorrect gauge wiring bundles are the backlighting for the pilot panel (reversionary switching, radio tuning unit, multifunction display (MFD), pilot yoke lights, pilot's primary flight display (PFD)), audio panel, flight guidance control panel, and display control panel. The instrument panel components affected include the MFD and the co-pilot's PFD.

This condition, if not corrected, could result in smoke in the cockpit and possibly cause wiring failure for the power to the airplane's cockpit lighting, the MFD, the co-pilot's PFD, and their respective systems. Failure of the wiring for the power to the airplane's cockpit backlighting, the MFD, and the co-pilot's PFD systems could also result in potential damage to surrounding wires and components.

Relevant Service Information

We reviewed Hawker Beechcraft Mandatory Service Bulletin No. SB 24-4050, dated November 2010. The service bulletin describes procedures for replacing incorrect gauge wires in the electrical power wiring bundles, inspecting the associated wire bundles and components for heat damage, and taking any necessary corrective actions.

FAA's Determination

We are proposing this AD because we evaluated all the relevant information and determined the unsafe condition described previously is likely to exist or develop in other products of the same type design.

Proposed AD Requirements

This proposed AD would require accomplishing the actions specified in the service information described.

Costs of Compliance

We estimate that this proposed AD affects 85 airplanes of U.S. registry.

We estimate the following costs to comply with this proposed AD:

Estimated costs
Action | Labor cost | Parts cost | Cost per product | Cost on U.S. operators
Replace incorrect gauge wires and damaged components | 15 work-hours × $85 per hour = $1,275 | $50 | $1,325 | $112,625

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Hawker Beechcraft Corporation: Docket No. FAA-2012-0830; Directorate Identifier 2012-CE-026-AD.

(a) Comments Due Date

We must receive comments by September 24, 2012.

(b) Affected ADs

None.

(c) Applicability

This AD applies to Hawker Beechcraft Corporation Model C90GTi (King Air) airplanes, serial numbers LJ-1847, and LJ-1853 through LJ-1997, that are certificated in any category.

(d) Subject

Joint Aircraft System Component (JASC)/Air Transport Association (ATA) of America Code 24; Electric power.

(e) Unsafe Condition

This AD was prompted by reports of incorrect gauge wires used in the wiring bundles for the cockpit electrical power for backlighting and instrument panel components. We are issuing this AD to prevent failure of the wiring for the power to the airplane's cockpit backlighting and instrument panel components. Failure of the wiring for the airplane's cockpit backlighting and instrument panel components could cause smoke in the cockpit, loss of power to the multifunction display, the co-pilot's primary flight display, cockpit lighting, and potential damage to surrounding wires and components.

(f) Compliance

Comply with this AD within the compliance times specified, unless already done.

(g) Replace Cockpit Electrical Power Wires

Within the next 50 hours time-in-service after the effective date of this AD or within the next 6 calendar months after the effective date of this AD, whichever occurs first, do the replacements specified below following the Accomplishment Instructions in Hawker Beechcraft Mandatory Service Bulletin No. SB 24-4050, dated November 2010:

(1) Replace wire part number (P/N) CB41-J11-1 on the A124 fuel control panel assembly with a new wire P/N M22759/16-14-9.

(2) Replace wire P/N J26-4-CB308 on the co-pilot primary flight display (PFD), and wire P/N J27-5-CB272 on the multifunction display (MFD), with a new wire P/N M22759/16-16-9.

(h) Inspect Associated Wire Bundles and Components

While doing the replacements required in paragraphs (g)(1) and (g)(2) of this AD at the compliance time specified in paragraph (g) of this AD, visually inspect the associated wire bundles and components for heat damage. Do the inspections following the Accomplishment Instructions in Hawker Beechcraft Mandatory Service Bulletin No. SB 24-4050, dated November 2010.

(i) Repair or Replace Damaged Wires and/or Components

Before further flight after the inspection required in paragraph (h) of this AD, repair or replace any heat damaged wires or components following the Accomplishment Instructions in Hawker Beechcraft Mandatory Service Bulletin No. SB 24-4050, dated November 2010.

(j) Special Flight Permit

Special flight permits are permitted with the following limitation: Visual flight rules (VFR) day conditions only.

(k) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(l) Related Information

(1) For more information about this AD, contact Richard Rejniak, Aerospace Engineer, Wichita ACO, FAA, 1801 Airport Road, Room 100, Wichita, Kansas 67209; phone: (316) 946-4128; fax: (316) 946-4107; email: richard.rejniak@faa.gov.

(2) For service information identified in this AD, contact Hawker Beechcraft Corporation, 10511 E. Central Ave., Wichita, Kansas 67206; phone: (316) 676-3100 or (888) 727-4344; fax: (316) 676-3222 or (316) 676-3327; email: HBC_Parts@hawkerbeechcraft.com; Internet: www.hawkerbeechcraft.com. You may review copies of the referenced service information at the FAA, Small Airplane Directorate, 901 Locust, Kansas City, Missouri 64106. For information on the availability of this material at the FAA, call (816) 329-4148.

Issued in Kansas City, Missouri, on August 3, 2012.
Earl Lawrence,
Manager, Small Airplane Directorate, Aircraft Certification Service.

[FR Doc. 2012-19495 Filed 8-8-12; 8:45 am]

BILLING CODE 4910-13-P